DEPARTMENT OF HEALTH AND HUMAN SERVICES

Health Resources and Services Administration

Agency Information Collection Activities: Submission to OMB for Review and Approval; Public Comment Request; Rural Health Care Services Outreach Program Performance Improvement and Measurement Systems (PIMS) Measures, OMB No. 0906-0009—Revision

AGENCY: Health Resources and Services Administration (HRSA), Department of Health and Human Services.

ACTION: Notice.

SUMMARY: In compliance with of the Paperwork Reduction Act of 1995, HRSA has submitted an Information Collection Request (ICR) to the Office of Management and Budget (OMB) for review and approval. Comments submitted during the first public review of this ICR will be provided to OMB. OMB will accept further comments from the public during the review and approval period. OMB may act on HRSA's ICR only after the 30-day comment period for this notice has closed.

DATES: Comments on this ICR should be received no later than November 18, 2021.

ADDRESSES: Written comments and recommendations for the proposed information collection should be sent within 30 days of publication of this notice to www.reginfo.gov/public/do/PRAMain. Find this particular information collection by selecting “Currently under Review—Open for Public Comments” or by using the search function.

FOR FURTHER INFORMATION CONTACT: To request a copy of the clearance requests submitted to OMB for review, email Samantha Miller, the acting HRSA Information Collection Clearance Officer at paperwork@hrsa.gov or call (301) 443-9094.

SUPPLEMENTARY INFORMATION:

Information Collection Request Title: Rural Health Care Services Outreach Program Performance Improvement and Measurement Systems (PIMS) Measures, OMB No. 0906-0009—Revision.

Abstract: The Rural Health Care Services Outreach (Outreach) Program is authorized by Section 330A(e) of the Public Health Service (PHS) Act (42 U.S.C. 254c(e)) and Public Law 116-136, to “promote rural health care services outreach by improving and expanding the delivery of health care services to include new and enhanced services in rural areas, through community engagement and evidence-based or innovative, evidence-informed models.” The goals for the Outreach Program are as follows: (1) Expand the delivery of health care services to include new and enhanced services exclusively in rural communities; (2) deliver health care services through a strong consortium, in which every consortium member organization is actively involved and engaged in the planning and delivery of services; (3) utilize community engagement and evidence-based or innovative, evidence-informed model(s) in the delivery of health care services; and (4) improve population health, and demonstrate health outcomes and sustainability.

A 60-day notice published in the Federal Register, 86 FR 38725, (July 22, 2021). There were no public comments.

Need and Proposed Use of the Information: The PIMS measures for the Outreach Program enable HRSA and the Federal Office of Rural Health Policy to capture awardee-level and aggregate data that illustrate the impact and scope of federal funding. The collection of this information helps further inform and substantiate the focus and objectives of the grant program. The measures encompass the following topics: (a) Access to care; (b) population demographics; (c) consortium/network; (d) sustainability; and (f) project specific domains.

There have been changes to the previously approved Outreach Program PIMS measures. The proposed Outreach PIMS measures reflect an increase in the number of measures including the following:

(1) The addition of project-specific measures related to the Rural Healthy Hometown Initiative (HRHI) (includes 17 required and 20 optional measures for a total of 37 additional measures) applicable only to Outreach awardees who apply to be part of the HRHI track (anticipated total of 16 out of 61 awardees) to focus on one or more of the five causes of excess death in rural communities (heart disease, cancer, unintentional injury/substance use, chronic lower respiratory disease, and stroke);

(2) Addition of project-specific measures (three additional measures) only applicable to Outreach Awardees with a focus on telehealth (anticipated total of 15 out of 61 awardees);

(3) The addition of social determinants of health measures (three additional measures) only applicable to Outreach Awardees addressing social determinants of health as part of their grant funded activities (anticipated total of 15 out of 61 awardees);

(4) The consolidation of the access to care measures from singular to composite measure format (currently 14, previously 16) applicable to all awardees (anticipated total of 61 awardees);

(5) Removal of an outdated project specific measure (one measure removed) applicable to awardees focused on childhood obesity;

(6) Removal of an outdated project specific applicable to awardees providing clinical services (currently 7, previously 8) related to Healthy People 2020; and

(7) Removal of the outdated project specific Health Improvement Special Project measure (one measure removed). In total, proposed changes reflect the addition of 43 measures and the removal of 5 measures for an increase in measures by a total of 38 measures. Of these measures, 17 are required and 26 are optional. All additional measures proposed are project specific (only applicable to anticipated total ranging from 15-16 out of 61 awardees). All measures will not be applicable to all 61 respondents. Project specific measures will remain applicable only to Outreach Awardees focusing on the respective project specific topic.

Note that the number from the “total burden hours” column on the burden table was collected from the current cohort of Outreach Program grant recipients, therefore it is different from the number of hours listed on the previous Notice of Action, which was collected from the previous cohort of Outreach Program grant recipients. This change in burden also correlates with the increase in the total number of current Outreach Program grant recipients compared to previous cohort of Outreach Program grant recipients (61 respondents anticipated, previously 25).

Likely Respondents: The respondents would be award recipients of the Rural Health Care Services Outreach Program.

Burden Statement: Burden in this context means the time expended by persons to generate, maintain, retain, disclose or provide the information requested. This includes the time needed to review instructions; to develop, acquire, install, and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Form name | Number of respondents | Number of responses per respondent | Total responses | Average burden per response (in hours) | Total burden hours
Rural Health Care Services Outreach PIMS | 61 | 1 | 61 | 7.5 | 457.5
Total | 61 |  | 61 |  | 457.5

HRSA specifically requests comments on: (1) The necessity and utility of the proposed information collection for the proper performance of the agency's functions; (2) the accuracy of the estimated burden; (3) ways to enhance the quality, utility, and clarity of the information to be collected; and (4) the use of automated collection techniques or other forms of information technology to minimize the information collection burden.

Maria G. Button,
Director, Executive Secretariat.

[FR Doc. 2021-22737 Filed 10-18-21; 8:45 am]

BILLING CODE 4165-15-P